DEPARTMENT OF COMMERCE

International Trade Administration

Service Industries, Tourism & Finance (SITF)

ACTION: Notice of development of a mailing list for U.S. companies interested in design, engineering, construction and other projects for the 2008 Beijing Olympics.

SUMMARY: In July 2001, Beijing was awarded the right to host the 2008 Olympics. In preparation for the games, Beijing plans to spend approximately U.S. $23 billion on the games. This includes Olympic sport facilities, as well as major enhancements to infrastructure projects in Beijing to improve the city's water processing, transportation, telecommunication networks and other projects. The Department of Commerce is developing a mailing list for U.S. companies interested in participating in the projects. If you would like to receive information on design, engineering, construction or other projects, contact the Service Industries Office at the email address below. Please provide a contact name, company name, address, phone and fax number, email address and what types of projects you are interested in knowing more about.

FOR FURTHER INFORMATION CONTACT: Ann Reed or Russell Adise in the International Trade Administration at the U.S. Department of Commerce at osi@ita.doc.gov, or by phone at 202-482-6165 and 202-482-5086.

Dated: November 21, 2002.
Keith Roth,
Acting Director, Office of Service Industries.

[FR Doc. 02-31710 Filed 12-16-02; 8:45 am]

BILLING CODE 3510-DR-P